DEPARTMENT OF TRANSPORTATION

Federal Railroad Administration

[Docket Number FRA-2018-0067]

Petition for Extension of Waiver of Compliance

Under part 211 of title 49 Code of Federal Regulations (CFR), this document provides the public notice that on August 3, 2023, the Peninsula Corridor Joint Powers Board (Caltrain) petitioned the Federal Railroad Administration (FRA) for an extension of a waiver of compliance from certain provisions of the Federal railroad safety regulations contained at 49 CFR parts 229 (Railroad Locomotive Safety Standards), 231 (Railroad Safety Appliance Standards), and 238 (Passenger Equipment Safety Standards). The relevant Docket Number is FRA-2018-0067.

Specifically, Caltrain requests continued relief for its Stadler-built KISS Electric Multiple Unit (EMU) railcars specific to the passenger area emergency brake valve (as required by § 229.47(b), Emergency brake valve, and § 238.305(c)(5), Interior calendar day mechanical inspection of passenger cars); the clearance above the top rail (as required by § 229.71, Clearance above top of rail); and the safety appliances (as required by § 229.71(b)-(d) and (f)-(g), § 238.229, Safety appliances—general, and § 238.230(d), Safety appliances—new equipment). Caltrain also notes that it has increased its EMU fleet from 16 six-car trainsets to 19 seven-car trainsets. Additionally, the intermediate level doors in the EMUs have been replaced with door plugs, as the doors “will not be utilized for initial operation at Caltrain.” Caltrain states that although the EMUs “may not meet the specific requirements” of the regulations, it requests relief for “alternate or equivalent compliance.”

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at http://www.regulations.gov. Follow the online instructions for submitting comments.

Communications received by November 20, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-20203 Filed 9-18-23; 8:45 am]

BILLING CODE